FEDERAL COMMUNICATIONS COMMISSION

[IB Docket 95-59; DA 01-2323]

Preemption of Local Zoning Regulations of Satellite Earth Stations

AGENCY: Federal Communications Commission.

ACTION: Notice.

SUMMARY: The Federal Communications Commission invites interested parties to update the record pertaining to petitions for reconsideration filed with respect to the rules adopted by the Commission in the Report and Order in IB Docket No. 95-59. This Public Notice seeks comment on this additional issue.

DATES: Comments may be filed on or before November 21, 2001; reply comments may be filed on or before December 3, 2001.

ADDRESSES: Electronic comments may be filed using the Commission's Electronic Comment Filing System (ECFS). Comments filed through the ECFS can be sent as an electronic file via Internet to http://www.fcc.gov/e-file/ecfs.html. All other filings must be sent to Office of the Secretary, Federal Communications Commission, 445 12th St., SW., Rm. TW-A325, Washington, DC 20554.

FOR FURTHER INFORMATION CONTACT: Selina Khan of the International Bureau at 202-418-7282.

SUPPLEMENTARY INFORMATION: This is a summary of the Commission's Public Notice in IB Docket No. 95-59, DA0 01-2322 (released October 5, 2001).

In March of 1996, the Commission released the Report and Order and Further Notice of Proposed Rulemaking, Preemption of Local Zoning Regulation of Satellite Earth Stations. IB Docket No. 95-59, 61 FR 10896 (March 18, 1996) (1996 Antenna Order). In this Report and Order, the Commission, among other things, amended, 25.104, 47 CFR 25.104 by creating a rebuttable presumption that local regulations that impose restrictions affecting the installation, use and maintenance of satellite earth station antennas one meter or less in any area or two meters or less in commercial or industrial areas were unreasonable and would be preempted. § 25.104 was subsequently further amended by the Report and Older, Preemption of local Zoning Regulation of Satellite Earth Stations, IB Docket No. 95-59, and Implementation of Section 207 of the Telecommunications Act of 1996. Restrictions on Over-the-Air Reception Devices: Television Broadcast Service and Multichannel Multipoint Distribution Service, CS Docket No. 96-83, 61 FR 46557 (September 4, 1996) (OTARD Order) to eliminate provisions regarding satellite antennas that are one meter or smaller and used to receive video programming. Such antennas are covered by 47 CFR 1.4000 (OTARD Rule).

Nine petitions for reconsideration of the 1996 Antenna Order were filed requesting that the Commission revise certain aspects of § 25.104, 47 CFR 25.104. Because many of these petitions were filed some time ago, the passage of time and intervening developments may have rendered the records developed for those petitions stale. Moreover, some issues raised in petitions for reconsideration may have become moot or irrelevant in light of intervening events, including Commission amendment of § 1.4000, 47 CFR 1.4000, to apply to antennas used to transmit as well as receive both video and non-video services.¹

¹ Promotion of Competitive Networks in Local Telecommunications Markets, Report and Order, 15 FCC Rcd 22983 (2000).

For these reasons, the International Bureau requests that parties that filed petitions for reconsideration concerning § 25.104 following the release of the 1996 Antenna Order identify issues from that order that remain unresolved now and supplement those petitions, in writing, to indicate which findings and rules they still wish to be reconsidered. To the extent that intervening events have materially altered the circumstances surrounding filed petitions or the relief sought by filing parties, those entities may refresh the record with new information or arguments related to their original filings that they believe to be relevant to the issues. The previously filed petitions will be deemed withdrawn and will be dismissed if parties do not indicate in writing an intent to pursue their respective petitions for reconsideration. The refreshed record in the § 25.104 proceeding will enable the Commission to undertake appropriate and expedited reconsideration of its rules. The OTARD Order and the OTARD Rule are not the subject of this Public Notice inviting petitions for reconsideration.

Procedural Matters

Pursuant to §§ 1.415 and 1.419 of the Commission's rules, 47 CFR 1.415, and 1.419, interested parties may file Supplemental Comments, limited to the issues addressed in this Public Notice, no later than November 21, 2001. Supplemental Reply Comments must be filed no later than December 3, 2001. In view of the tendency of this proceeding, we expect to adhere to the schedule set forth in this Public Notice and do not contemplate granting extensions of time. Comments should reference IB Docket No. 95-59 and should include the FCC number shown on this Public Notice. Comments may be filed using the Commission's Electronic Comment Filing System (ECFS).² Comments filed through the ECFS can be sent as an electronic file via Internet to http://www.fcc.gov/e-file/ecfs.html. In completing the transmittal screen, parties responding should include their full name, mailing address, and the applicable docket number, IB Docket 95-59. Parties who choose to file by paper must file an original and four copies of each filing. If more than one docket or rulemaking appear in the caption of this proceeding, commenters must submit two additional copies for each additional docket or rulemaking number. All filings must be sent to the Commission's Secretary, Magalie Roman Salas. Office of the Secretary, Federal Communications Commission, 445 12th St., SW., Rm. TW-A325, Washington, DC 20554. One copy of all comments should also be sent to the Commission's copy contractor. Copies of all filings are available for public inspection and copying during regular business hours at the FCC Reference Information Center, Portals II, 445 12th Street, SW., Washington, DC 20554, telephone 202-857-3800, facsimile 202-857-3805.

² See Electronic Filing of Documents in Rulemaking Proceeding, 63 FR 24121 (May 1, 1998).

In the Part 100 Notice, the Commission presented an Initial Regulatory Flexibility Analysis,³ as required by the Regulatory Flexibility Act (RFA).⁴ If commenters believe that the proposals discussed in this Public Notice require additional RFA analysis, they should include a discussion of these issues in their Supplemental Comments.

³ Part 100 Notice, 13 FCC Rcd at 6907.

⁴ See 5 U.S.C. 603. The RFA, see 5 U.S.C. 601 et seq., has been amended by the Contract With America Advancement Act of 1996, Public Law 104-121, 110 Stat. 847 (1996) (CWAAA). Title II of the CWAAA is the Small Business Regulatory Enforcement Fairness Act of 1996 (SBREFA).

For ex parte purposes, this proceeding continues to be a “permit-but-disclose” proceeding, in accordance with § 1.1200(a) of the Commission's rules, 47 CFR 1.1200(a) and is subject to the requirements set forth in § 1.1206(b) of the Commission's rules, 47 CFR 1.1206(b).

Federal Communications Commission.
Magalie Roman Salas,
Secretary.

[FR Doc. 01-26512 Filed 10-19-01; 8:45 am]

BILLING CODE 6712-01-P